DEPARTMENT OF DEFENSE

Office of the Secretary

[Transmittal Nos. 13-28]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-28 with attached transmittal, and policy justification.

Dated: May 28, 2013.
Aaron Siegel,
Alternate OSD Federal Register Liaison Officer, Department of Defense.

BILLING CODE 5001-06-P

BILLING CODE 5001-06-C

Transmittal No. 13-28

Notice of Proposed Issuance of Letter of Offer Pursuant to Section 36(b)(1) of the Arms Export Control Act, as amended (U)

(i) Prospective Purchaser: The Netherlands

(ii) Total Estimated Value:

Major Defense Equipment* | $ 10 million
Other | 181 million
Total | 191 million
* as defined in Section 47(6) of the Arms Export Control Act.

(iii) Description and Quantity or Quantities of Articles or Services under Consideration for Purchase: continuation of a Continental United States (CONUS)-based Royal Netherlands Air Force F-16 Formal Training Unit (FTU), 50,000 MJU-7B w/BBU-36B Infrared Decoy Flares, 30,000 RR-188 w/BBU-35B Training Chaff, 3,750 BDU-33D/B w/lugs/Mk4 spot low-drag training bombs, 240 MK-82 inert low-drag general purpose bombs, 90 GBU-12 inert laser-guided bombs, 60-GBU-38 inert GPS guided bombs, 120,000 PGU-27 inert training rounds, pilot training, JP-8 fuel, air refueling support, airlift services, base operating support, facilities, training munitions, technical data and publications, personnel training and training equipment, U.S. government and contractor technical and logistics support services, and other related elements of logistics support.

(iv) Military Department: Air Force (NXZ).

(v) Prior Related Cases, if any:

FMS case NZS-$122 million-31Dec06.

FMS case NZU-$93 million-19Aug10.

(vi) Sales Commission, Fee, etc., Paid, Offered, or Agreed to be Paid: None.

(vii) Sensitivity of Technology Contained in the Defense Article or Defense Services Proposed to be Sold: None.

(viii) Date Report Delivered to Congress: 17 May 2013.

POLICY JUSTIFICATION

The Netherlands—F-16 Pilot Training and Logistics Support

The Government of the Netherlands has requested a possible sale for the continuation of a Continental United States (CONUS)-based Royal Netherlands Air Force (RNLAF) F-16 Formal Training Unit (FTU), 50,000 MJU-7B w/BBU-36B Infrared Decoy Flares, 30,000 RR-188 w/BBU-35B Training Chaff, 3,750 BDU-33D/B w/lugs/Mk4 spot low-drag training bombs, 240 MK-82 inert low-drag general purpose bombs, 90 GBU-12 inert laser-guided bombs, 60-GBU-38 inert GPS guided bombs, 120,000 PGU-27 inert training rounds, pilot training, JP-8 fuel, air refueling support, airlift services, base operating support, facilities, training munitions, technical data and publications, personnel training and training equipment, U.S. government and contractor technical and logistics support services, and other related elements of logistics support. The estimated cost is $191 million.

This proposed sale contributes to the foreign policy and national security objectives of the U.S. by improving the capabilities of the RNLAF and enhancing its standardization and interoperability with U.S. forces.

The RNLAF trains aircrews in aircraft operations and tactics with the 162nd Fighter Wing at Tucson Air National Guard Base. The continuation of this U.S.-based training supports the RNLAF's ability to continue its contributions to Overseas Contingency Operations and to North Atlantic Treaty Organization air policing operations in Afghanistan, as well as to possible future coalition operations.

The proposed sale of this equipment and support will not alter the basic military balance in the region.

The U.S. Air Force will manage the F-16 pilot training program for the RNLAF. The Tucson Air National Guard, 162nd Fighter Wing will provide instruction, flight operations, and maintenance support and facilities. There is no prime contractor involved in this program. There are no known offset agreements proposed in connection with this potential sale.

Implementation of this proposed sale will not require the assignment of any U.S. Government or contractor representatives to The Netherlands.

There will be no adverse impact on U.S. defense readiness as a result of this proposed sale.

[FR Doc. 2013-12932 Filed 5-30-13; 8:45 am]

BILLING CODE 5001-06-P